INTERNATIONAL TRADE COMMISSION

[USITC SE-15-028]

Government in the Sunshine Act Meeting Notice

Agency Holding the Meeting: United States International Trade Commission

Time and Date: September 10, 2015 at 11:00 a.m.

Place: Room 101, 500 E Street SW., Washington, DC 20436, Telephone: (202) 205-2000.

Status: Open to the public.

Matters To Be Considered: 1. Agendas for future meetings: none.

2. Minutes.

3. Ratification List.

4. Vote in Inv. Nos. 701-TA-540-544 and 731-TA-1283-1290 (Preliminary) (Cold-Rolled Steel Flat Products from Brazil, China, India, Japan, Korea, Netherlands, Russia, and the United Kingdom). The Commission is currently scheduled to complete and file its determinations on September 11, 2015; views of the Commission are currently scheduled to be completed and filed on September 18, 2015.

5. Outstanding action jackets: none.

In accordance with Commission policy, subject matter listed above, not disposed of at the scheduled meeting, may be carried over to the agenda of the following meeting.

By order of the Commission.
Issued: September 2, 2015.
William R. Bishop,
Supervisory Hearings and Information Officer.

[FR Doc. 2015-22542 Filed 9-2-15; 4:15 pm]

BILLING CODE 7020-02-P